DEPARTMENT OF JUSTICE

Antitrust Division

Notice Pursuant to the National Cooperative Research and Production Act of 1993—National Marine Manufacturers Association

Notice is hereby given that, on September 20, 2004, pursuant to section 6(a) of the National Cooperative Research and Production Act of 1993, 15 U.S.C. 4301 et seq. (“the Act”), National Marine Manufacturers Association (“NMMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Marine Manufacturers Association, Chicago, IL. The nature and scope of NMMA's standards development activities are: to develop, promulgate and make available voluntary lubricant performance standards for the marine industry. NMMA establishes performance standards and testing procedures for marine engine oils to assist boaters and manufacturers in identifying engine oils which have been specially formulated to withstand the rigors of use in marine engines. NMMA's voluntary consensus standards are developed by NMMA members with comments from the public. NMMA members include original equipment manufacturers, test laboratories, oil marketers and oil additive companies.

Additional information concerning NMMA can be obtained from Tom Marhevko at NMMA at (312) 946-6213.

Dorothy B. Fountain,
Deputy Director of Operations, Antitrust Division.

[FR Doc. 04-23524 Filed 10-20-04; 8:45 am]

BILLING CODE 4410-11-M